DEPARTMENT OF COMMERCE

International Trade Administration

Renewable Energy and Energy Efficiency Advisory Committee

AGENCY: International Trade Administration, U.S. Department of Commerce.

ACTION: Notice of an open meeting; postponed.

SUMMARY: The Renewable Energy and Energy Efficiency Advisory Committee (REEEAC) in-person meeting scheduled for Wednesday, February 12, 2025 at the Department of Commerce in Washington, DC has been postponed. A rescheduled date and time for the REEEAC meeting will be announced through the Federal Register as well as on the REEEAC website, https://trade.gov/reeeac.

FOR FURTHER INFORMATION CONTACT: Cora Dickson, Designated Federal Officer, Office of Energy and Environmental Industries, Industry and Analysis, International Trade Administration, U.S. Department of Commerce at (202) 482-6083; email: Cora.Dickson@trade.gov.

SUPPLEMENTARY INFORMATION: The International Trade Administration (ITA) is giving notice that it is postponing a meeting of the REEEAC. ITA originally published in the Federal Register on Wednesday, January 29, 2025 (90 FR 8382) a notice announcing that the REEEAC would be meeting on Wednesday, February 12, 2025, from about 10 a.m. to 3:30 p.m. ITA is postponing that meeting. In a future Federal Register notice, the ITA will announce a rescheduled date and time for the REEEAC meeting.

The Secretary of Commerce established the REEEAC pursuant to discretionary authority and in accordance with the Federal Advisory Committee Act, as amended (5 U.S.C. 1001 et seq.), on July 14, 2010. The REEEAC was re-chartered most recently on May 24, 2024. The REEEAC provides the Secretary of Commerce with advice from the private sector on the development and administration of programs and policies to expand the export competitiveness of U.S. renewable energy and energy efficiency products and services. More information about the REEEAC, including the list of appointed members for this charter, is published online at https://trade.gov/reeeac.

Man K. Cho,
Deputy Director, Office of Energy and Environmental Industries.

[FR Doc. 2025-02534 Filed 2-11-25; 8:45 am]

BILLING CODE 3510-DR-P